DEPARTMENT OF DEFENSE

Office of the Secretary

[Docket ID: DOD-2025-OS-0540]

Submission for OMB Review; Comment Request

AGENCY: Office of the Under Secretary of Defense for Intelligence and Security (OUSD(I&S)), Department of Defense (DoD).

ACTION: 30-Day information collection notice.

SUMMARY: The DoD has submitted to the Office of Management and Budget (OMB) for clearance the following proposal for collection of information under the provisions of the Paperwork Reduction Act.

DATES: Consideration will be given to all comments received by January 15, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Specific Authorization for Disclosure of Financial Information and Specific Authorization for Release of Behavioral Health and Related Medical Information; DCSA 343/344; OMB Control Number 0705-SARD.

Type of Request: New.

Number of Respondents: 3,563.

Responses per Respondent: 1.

Annual Responses: 3,563.

Average Burden per Response: 5 minutes.

Annual Burden Hours: 297.

Needs and Uses: The Specific Authorization for Disclosure of Financial Information (DCSA 343) is a special consent form that will allow DCSA access to certain financial records which are not otherwise accessible because they are protected under the provisions of the Right to Financial Privacy Act. The information collected on the DCSA 343 will be used to obtain specific financial information where there is evidence of financial concerns. The DCSA 343 will be used in background investigations to help establish facts required to determine whether the subject of the investigation should be adjudicated to be eligible for logical and physical access to Government facilities and systems; suitable or fit for Federal employment; fit to perform work on behalf of the Federal Government under a Government contract; eligible to hold a position that is sensitive for national security reasons; or eligible for access to classified information. The DCSA 343 is only used when information is unable to be obtained solely with the use of the Standard Form (SF) Authorization for Release of Information. The Specific Authorization for Release of Behavioral Health and Related Medical Information (DCSA 344) is a special consent form that will allow the DCSA access to certain restricted medical records which are not otherwise accessible because they are protected under the Health Insurance Portability and Accountability Act (HIPAA). The information collected on the DCSA 344 will be used to conduct a detailed medical interview and record review with the practitioner when the practitioner indicates on the SF Authorization for Medical Release of Medical Information Pursuant to the HIPAA that the subject of the investigation has a condition or treatment that could impair judgement, reliability, or trustworthiness; there is evidence of alcohol-related treatment or counseling; or there is evidence of drug-related treatment or counseling. The DCSA 344 will be used in background investigations to help establish facts required to determine whether the subject of the investigation should be adjudicated to be eligible for logical and physical access to Government facilities and systems; suitable or fit for Federal employment; fit to perform work on behalf of the Federal Government under a Government contract; eligible to hold a position that is sensitive for national security reasons; or eligible for access to classified information. DCSA's use of these collections will be limited to background investigations, conducted under the authority of Executive Order 13467 as amended by Executive Order 13869, requiring a deeper review of an individual's personal finances or sensitive medical information, strictly limited to the circumstances defined within and required by the Federal Personnel Vetting Investigative Standards.

Affected Public: Individuals or households.

Frequency: On occasion.

Respondent's Obligation: Voluntary.

DOD Clearance Officer: Mr. Reginald Lucas.

Dated: December 12, 2025.
Stephanie J. Bost,
Alternate OSD Federal Register Liaison Officer, Department of Defense.

[FR Doc. 2025-22978 Filed 12-15-25; 8:45 am]

BILLING CODE 6001-FR-P